DEPARTMENT OF DEFENSE

Department of the Air Force

Intent To Grant an Exclusive License.

Pursuant to the provisions of Part 404 of Title 37, Code of Federal Regulations, which implements Pub. L. 96-517, the Department of the Air Force announces its intention to grant Aseptico, Inc., a corporation of the State of Washington, an exclusive license under U.S. Patent 5,700,147, Air Controlled Sterile Irrigation System, to Mills et al. The license described above will be granted unless an objection thereto together with a request for an opportunity to be heard, if desired, is received in writing by the addressee set forth below, within fifteen (15) days from the date of publication of this Notice.

All communications concerning this Notice should be sent to: Paul D. Heydon, Patent Attorney, Commercial Law Division, Office of the Staff Judge Advocate, 311th Human Systems Wing, Air Force Materiel Command 8010, Chennault Path, Brooks City-Base, TX 78235, (210) 536-5359

Albert F. Bodnar,
Federal Register Liaison Officer.

[FR Doc. 05-5020 Filed 3-14-05; 8:45 am]

BILLING CODE 5001-05-P